GENERAL SERVICES ADMINISTRATION

[Notice-PBS-2020-01; Docket No. 2020-0002; Sequence No. 4]

Notice of Availability for the Draft Environmental Assessment for the Appraisers Building and U.S. Custom House Limited Scope Repair & Alteration Project in San Francisco, California

AGENCY: General Services Administration (GSA)

ACTION: Notice of availability.

SUMMARY: This notice announces the availability, and opportunity for public review and comment, of a Draft Environmental Assessment(EA), which examines the potential impacts of a proposal by GSA to provide limited scope and alterations to the existing Appraisers Building and U.S. Custom House, San Francisco, CA (Project). The Draft EA describes the reasons the project is proposed; the alternatives being considered; the potential impacts of the alternatives on the existing environment; and the proposed avoidance, minimization, and/or mitigation measures related to those alternatives.

DATES: Agencies and the public are encouraged to provide written comments on the Draft EA.

The 30-day public comment period for the Draft EA ends on February 25, 2020.

ADDRESSES: Further information, including an electronic copy of the Draft EA, may be found online on the following website: https://www.gsa.gov/about-us/regions/welcome-to-the-pacific-rim-region-9/buildings-and-facilities/california/us-appraisers-building and https://www.gsa.gov/about-us/regions/welcome-to-the-pacific-rim-region-9/buildings-and-facilities/california/us-custom-house-san-francisco (the Draft EA is located under the “Current Projects” section).

Questions or comments concerning the Draft EA should be directed to: Osmahn Kadri, Regional Environmental Quality Advisor/NEPA Project Manager, 50 United Nations Plaza, Room 3345, Mailbox 9, San Francisco, CA, 94102, or via email to osmahn.kadri@gsa.gov.

FOR FURTHER INFORMATION CONTACT: Mr. Osmahn A. Kadri, Regional Environmental Quality Advisor/NEPA Project Manager, GSA, Pacific Rim Region, at 415-522-3617 or email osmahn.kadri@gsa.gov. Please also call this number if special assistance is needed to attend and participate in the public meeting.

SUPPLEMENTARY INFORMATION:

Background

The Project is located at 630 Sansome Street (Appraisers Building) and 555 Battery Street (U.S. Custom House), San Francisco, California. The Project involves two adjacent historical buildings in Downtown San Francisco, California—the Appraisers Building located at 630 Sansome Street, and the U.S. Custom House located at 555 Battery Street. The Project is proposed in order to improve certain systems of the Appraisers Building and U.S. Custom House up to current building code, safety standards and serviceable condition and to prolong their useful life. Both buildings contain certain building elements and building systems that, due to age, advancement in technologies, failure, or need for operational upgrades, must be addressed.

Alternatives Under Consideration

The Draft EA analyzes an Action Alternative and a No Action Alternative. The Action Alternative would repair, modify, or replace certain building improvements and systems to improve certain building systems to current building code and safety standards, as well as to prolong their useful life. The limited scope repairs would address deficiencies in the following categories: Electrical; Fire Protection; Architectural Barriers Act Accessibility Standard (ABAAS) Compliance; Curtain Walls; Windows; Roofing; Overhang Canopy; Elevators; Exterior Cladding; Sub-basement Water Intrusion; Building Systems—Mechanical & Plumbing; and Window Washing System.

Under the No Action Alternative, the limited scope repairs and alterations to the existing Appraisers Building and U.S. Custom House would not occur.

Dated: January 22, 2020.
Moonyeen Alameida,
Acting Director, Portfolio Management Division, Pacific Rim Region, Public Buildings Service.

[FR Doc. 2020-01585 Filed 1-30-20; 8:45 am]

BILLING CODE 6820-YF-P